FEDERAL RESERVE SYSTEM

Notice of Proposals to Engage in Permissible Nonbanking Activities or to Acquire Companies that are Engaged in Permissible Nonbanking Activities; Correction

This notice corrects a notice (FR Doc. 05-16249) published on page 48422 of the issue for Wednesday, August 17, 2005.

Under the Federal Reserve Bank of Minneapolis heading, the entry for Frandsen Financial Corporation, Arden Hills, Minnesota, is revised to read as follows:

A. Federal Reserve Bank of Minneapolis (Jacqueline G. King, Community Affairs Officer) 90 Hennepin Avenue, Minneapolis, Minnesota 55480-0291:

1. Frandsen Financial Corporation, Forest Lake, Minnesota; to acquire QCF Bancorp, Virginia, Minnesota, and thereby indirectly acquire Queen City Federal Savings Bank, Virginia, Minnesota, and engage in owning and operating a savings and loan association, pursuant to section 225.28(b)(4)(ii) of Regulation Y.

Comments on this application must be received by September 9, 2005.

Board of Governors of the Federal Reserve System, August 19, 2005.
Robert deV. Frierson,
Deputy Secretary of the Board.

[FR Doc. 05-16886 Filed 8-24-05; 8:45 am]

BILLING CODE 6210-01-S